DEPARTMENT OF TRANSPORTATION

Federal Railroad Administration

[Docket Number FRA-2012-0076]

Petition for Waiver of Compliance

In accordance with Part 211 of Title 49 Code of Federal Regulations (CFR), this document provides the public notice that by a document dated June 18, 2012, the Locomotive and Tower Preservation Fund, Ltd. (L&TPF) has petitioned the Federal Railroad Administration (FRA) for a waiver of compliance from certain provisions of the Federal railroad safety regulations contained in 49 CFR part 230—Steam Locomotive Inspection and Maintenance Standards. FRA assigned the petition Docket Number FRA-2012-0076.

Steam Locomotive Number 2719 is a former Soo Line class H-23 4-6-2 “Pacific” type locomotive built by the American Locomotive Company in 1923. L&TPF restored Steam Locomotive Number 2719 and completed the current 1,472-service-day inspection (SDI) in accordance with 49 CFR 230.17-One thousand four hundred seventy-two (1472) service day inspection in July 1998. As of September 2006, Steam Locomotive Number 2719 has been operated by the Lake Superior Railroad Museum and the North Shore Scenic Railroad.

To date, Steam Locomotive Number 2719 has accumulated 224 days of service, with the possibility of an additional 25-29 service days for the remainder of 2012, and another 25-29 service days for the 2013 operating season. Its second 1,472 SDI is due at the expiration of the 15 years permitted by 49 CFR 230.17.

L&TPF requests relief from 49 CFR 230.17(a) with respect to the timeframe for the inspection. The current 1,472 SDI period ends on July 30, 2013. The request is for permission to extend the current 1,472 SDI for 60 calendar days to allow Steam Locomotive Number 2719 to finish the late summer/early fall operating season at the end of September 2013. This would allow for an additional four weekends of service. The annual inspection will be performed as required in July 2013. Granting the waiver will allow Steam Locomotive Number 2719 to operate during its normal seasonal operation, and will move the 15-year 1,472 SDI date so that it occurs after the operating season. L&TPF states that granting the relief will permit the locomotive to finish its operating season, generate income to use for the SDI, and will not decrease the safety for the locomotive, railroad employees, or the public.

A copy of the petition, as well as any written communications concerning the petition, is available for review online at www.regulations.gov and in person at the U.S. Department of Transportation's Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov/. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by December 20, 2012 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on October 26, 2012.
Ron Hynes,
Director, Office of Safety Assurance and Compliance.

[FR Doc. 2012-26812 Filed 10-30-12; 8:45 am]

BILLING CODE 4910-06-P